DEPARTMENT OF HEALTH AND HUMAN SERVICES

Administration on Aging

Agency Information Collection Activities; Submission for OMB Review; Comment Request; Extension of the Expiration Date of the Title VI Program Performance Report

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 20, 2009.

ADDRESSES: Submit written comments on the collection of information by fax 202.395.6974 to the OMB Desk Officer for AoA, Office of Information and Regulatory Affairs, OMB.

FOR FURTHER INFORMATION CONTACT: Yvonne Jackson; Director; Office for American Indian, Alaskan Native and Native Hawaiian Programs; Administration on Aging; Washington, DC, 20201; (202) 357-3501; Yvonne.Jackson@aoa.hhs.gov.

SUPPLEMENTARY INFORMATION: In compliance with 44 U.S.C. 3507, AoA has submitted the following proposed collection of information to OMB for review and clearance. AoA is requesting a continuation of an existing collection for Annual Program Performance Reports for Older Americans Act Title VI grantees. Information from the Title VI Program Performance Report provides a data base for AoA to (1) monitor program achievement of performance objectives; (2) establish program policy and direction; and (3) prepare responses to Congress, the OMB, the U.S. Government Accountability Office, other federal departments, and public and private agencies as required by the OAA Title II sections 202(a)19 and 208; and (4) prepare data for the Federal Interagency Task Force on Older Indians established pursuant to section 134(d) of the 1987 Amendments to the OAA. If AoA did not collect the program data herein requested, it would not be able to monitor and manage total program progress as expected, nor develop program policy options directed toward assuring the most effective use of limited Title VI funds. Reports are due annually on June 30th. AoA submits an annual report to Congress and the reporting data is included in that report. Estimated Number of Responses: 246. Total Estimated Burden Hours: 615.

In the Federal Register of April 8, 2009 (Vol. 74, No. 66, Pages 15984-15985), the agency requested comments on the proposed collection of information. No comments were received.

Dated: June 12, 2009.
Edwin L. Walker,
Acting Assistant Secretary for Aging.

[FR Doc. E9-14348 Filed 6-17-09; 8:45 am]

BILLING CODE 4154-01-P